SMALL BUSINESS ADMINISTRATION

[Disaster Declaration #20711 and #20712; GEORGIA Disaster Number GA-20013]

Presidential Declaration Amendment of a Major Disaster for the State of Georgia

AGENCY: U.S. Small Business Administration.

ACTION: Amendment 6.

SUMMARY: This is an amendment of the Presidential declaration of a major disaster for the State of Georgia (FEMA-4830-DR), dated 09/30/2024.

Incident: Hurricane Helene.

Incident Period: 09/24/2024 and continuing.

DATES: Issued on 10/14/2024.

Physical Loan Application Deadline Date: 11/29/2024.

Economic Injury (EIDL) Loan Application Deadline Date: 06/30/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Georgia, dated 09/30/2024, is hereby amended to include the following areas as adversely affected by the disaster:

Primary Counties (Physical Damage and Economic Injury Loans): McIntosh.

Contiguous Counties (Economic Injury Loans Only): All counties contiguous to the above-named county have been previously declared.

All other information in the original declaration remains unchanged.

(Catalog of Federal Domestic Assistance Number 59008)

Rafaela Monchek,
Deputy Associate Administrator, Office of Disaster Recovery & Resilience.

[FR Doc. 2024-24180 Filed 10-18-24; 8:45 am]

BILLING CODE 8026-09-P